CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled the AmeriCorps*VISTA Project Progress Report (OMB Control Number 3045-0043) to the Office of Management and Budget (OMB) for review and approval in accordance with the Paperwork Reduction Act of 1995, Pub. L. 104-13, (44 U.S.C. Chapter 35). Copies of this ICR, with applicable supporting documentation, may be obtained by calling the Corporation for National and Community Service, Mr. Craig Kinnear at (202) 606-9708. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and (2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on March 4, 2008. This comment period ended May 4, 2008. No public comments were received from this notice.

Description

The Progress Report (PPR) was designed to assure that AmeriCorps*VISTA sponsors address and fulfill legislated program purposes, meet agency program management and grant requirements, and assess progress toward project plan goals agreed upon in the signing of the Memorandum of Agreement.

The Corporation seeks to revise the previously used Project Application to: (a) Better align the information requested on the Concept Paper and the Application; and (b) simplify the project plan while continuing to provide a robust tool for evaluating project performance.

The Corporation seeks to revise the previously used PPR to: (a) Reduce respondent burden; (b) enhance data elements collected via this information collection tool; (c) establish reporting periods consistent with the Corporation's integrated grants management and reporting policies.

The current PPR is used by AmeriCorps*VISTA sponsors and grantees to report progress toward accomplishing work plan goals and objectives, reporting actual outcomes related to self-nominated performance measures meeting challenges encountered, describing significant activities, and requesting technical assistance. The PPR is also used to collect demographic data elements used by the Corporation for aggregate reporting purposes. Submissions of the PPR are done quarterly.

The revised PPR will be divided into two separate parts in order to reduce burden and to increase data integrity. All demographic data elements will be removed from the quarterly submissions and added to an annual VISTA Progress Report Supplement (VPRS) due 30 days after the end of a fiscal year. The quarterly reports will retain their purpose of providing monitoring and oversight of individual projects, while the annual data collection will serve the purpose of aggregate performance reporting for the VISTA program. Burden will be reduced by collecting the demographic data elements once a year instead of quarterly. Data integrity will be increased by tying data elements to specific fiscal years rather than project reporting cycles.

Type of Review: Renewal.

Agency: Corporation for National and Community Service.

Title: AmeriCorps*VISTA Project Progress Report (PPR).

OMB Number: 3045-0043.

Agency Number: None.

Affected Public: AmeriCorps*VISTA sponsoring organizations.

PPR (Part A):

Total Respondents: 1000.

Frequency: Quarterly.

Average Time per Response: 7 hours.

Estimated Total Burden Hours: 28,000 hours.

Total Burden Cost (capital/startup): None.

Total Burden Cost (operating/maintenance): None.

VPRS (Part B):

Total Respondents: 1000.

Frequency: Annual.

Average Time Per Response: 8 hours.

Estimated Total Burden Hours: 8000 hours.

Total Burden Cost (capital/startup): None.

Total Burden Cost (operating/maintenance): None.

Dated: June 23, 2008.
Jean Whaley,
Director, AmeriCorps*VISTA.

[FR Doc. E8-14629 Filed 6-26-08; 8:45 am]

BILLING CODE 6050-$$-P